DEPARTMENT OF AGRICULTURE

Forest Service

Fee Schedule for Linear Rights-of-Way Authorized on National Forest System Lands

AGENCY: Forest Service, USDA.

ACTION: Notice of Adoption of Mandatory Right-of-Way Land Use Fee Schedule.

SUMMARY: The Forest Service is hereby adopting the Bureau of Land Management (BLM)'s revised linear right-of-way fee schedule in 43 CFR 2806.20 for linear rights-of-way authorized on National Forest System (NFS) lands under Title V of the Federal Land Policy and Management Act (FLPMA), 43 U.S.C. 1761-1771, and Section 28 of the Mineral Leasing Act (MLA), 30 U.S.C. 185, as required by Section 367, Subtitle F, Title III, of the Energy Policy Act of 2005, Public Law 109-58, 119 Stat. 685 (August 8, 2005). Additionally, the Forest Service is adopting this fee schedule for linear rights-of-way authorized on NFS lands under other statutes.

DATES: The revised linear right-of-way fee schedule applies to linear rights-of-way on NFS lands on December 1, 2008.

FOR FURTHER INFORMATION CONTACT: Glen Parker, (202) 205-1196, or Julett Denton, (202) 205-1256.

SUPPLEMENTARY INFORMATION: Like BLM, the Forest Service is required to charge fees based on market value for the commercial use and occupancy of lands under its jurisdiction, including use and occupancy for linear rights-of-way for facilities such as power lines, fiber optic lines, pipelines, roads, and ditches. Both agencies authorize these uses under Title V of FLPMA and Section 28 of the MLA. Since 1987, the two agencies have shared a fee schedule for rights-of-way across the lands they manage. This joint fee schedule established eight fee zones based on the distribution of average land values by county in each state, except Alaska and Hawaii, and Puerto Rico.

In 2005, Congress enacted the Energy Policy Act. Under section 367 of the Energy Policy Act, BLM is solely responsible for the linear right-of-way fee schedule used by the two agencies. Section 367, entitled “Fair Market Value Determinations for Linear Rights-of-Way Across Public Lands and National Forests,” directs the Secretary of the Interior to (1) update 43 CFR 2806.20, which contains the per-acre fee schedule for linear rights-of-way on public lands managed by BLM; and (2) revise the per-acre fee zone value schedule by state, county, and type of linear right-of-way uses to reflect current values of land in each zone. Section 367 also directs the Secretary of Agriculture to adopt the revisions to BLM's linear right-of-way fee schedule for linear rights-of-way granted, issued, or renewed on NFS lands under Title V of FLPMA or Section 28 of the MLA.

Accordingly, the Forest Service gave notice in the preamble to BLM's proposed and final rules updating and revising BLM's linear right-of-way fee schedule per section 367 (72 FR 70376; December 11, 2007; 73 FR 65040; October 31, 2008) that the Forest Service will adopt the fee schedule. In addition, the Forest Service is hereby giving notice of its adoption of the revisions to BLM's linear right-of-way fee schedule. Although not statutorily required, the Forest Service is adopting BLM's revised fee schedule for all linear rights-of-way authorized on NFS lands, including those authorized under statutes other than FLPMA and the MLA, such as the Forest Service's Organic Act, 16 U.S.C. 551, and Section 7 of the Granger-Thye Act, 16 U.S.C. 580d.

Dated: November 11, 2008.
Mark Rey,
Under Secretary, Natural Resources and Environment.

[FR Doc. E8-26631 Filed 11-7-08; 8:45 am]

BILLING CODE 3410-11-P